ENVIRONMENTAL PROTECTION AGENCY

40 CFR Part 60

Standards of Performance for New Stationary Sources

CFR Correction

In Title 40 of the Code of Federal Regulations, Part 60 (§ 60.1 to end of part 60 sections), revised as of July 1, 2010:

1. On page 334, at the end of § 60.101a, an effective date note is added to read as follows:

§ 60.101a Definitions.

* * * * *

Effective Date Note: At 73 FR 78552, Dec. 22, 2008, in § 60.101a the definition of “flare” was stayed from Feb. 24, 2009 until further notice.

2. On page 337, at the end of § 60.102a, an effective date note is added to read as follows:

§ 60.102a Emissions limitations.

* * * * *

Effective Date Note: At 73 FR 78552, Dec. 22, 2008, in § 60.102a, paragraph (g) was stayed from Feb. 24, 2009 until further notice.

3. On page 353, at the end of § 60.107a, an effective date note is added to read as follows:

§ 60.107a Monitoring of emissions and operations for fuel gas combustion devices.

* * * * *

Effective Date Note: At 73 FR 78552, Dec. 22, 2008, in § 60.107a, paragraphs (d) and (e) were stayed from Feb. 24, 2009 until further notice.

[FR Doc. 2011-4310 Filed 2-24-11; 8:45 am]

BILLING CODE 1505-01-D